DEPARTMENT OF TRANSPORTATION

Federal Transit Administration

Notice of Meeting of the Transit Advisory Committee for Safety

AGENCY: Federal Transit Administration, Department of Transportation.

ACTION: Notice of public meeting.

SUMMARY: The Federal Transit Administration (FTA) announces a public meeting of the Transit Advisory Committee for Safety (TRACS).

DATES: The TRACS meeting will be held on June 24, 2024, from 10:00 a.m. to 4:30 p.m. Eastern Time and June 25, 2024, from 9:00 a.m. to 2:00 p.m. Eastern Time. Requests to attend the meeting in person or virtually must be received no later than June 17, 2024. Requests for disability accommodations must be received no later than June 17, 2024. Requests to verbally address the committee during the meeting must be submitted with a written copy of the remarks to the U.S. Department of Transportation (DOT) no later than June 17, 2024. Requests to submit written materials to be reviewed during the meeting must be received no later than June 17, 2024.

ADDRESSES: The meeting will be held in person at DOT Headquarters, 1200 New Jersey Avenue SE, Washington, District of Columbia, 20590 and virtually via Zoom for Government. Any committee related requests should be sent by email to TRACS@dot.gov. The virtual meeting's online access link and a detailed agenda will be provided upon registration. They will also be posted on the TRACS web page at: https://www.transit.dot.gov/regulations-and-guidance/safety/transit-advisory-committee-safety-tracs one week in advance of the meeting. A copy of the meeting minutes and other TRACS related information will also be available on the TRACS web page.

FOR FURTHER INFORMATION CONTACT: Joseph DeLorenzo, TRACS Designated Federal Officer, Associate Administrator, FTA Office of Transit Safety and Oversight, (202) 366-1783, Joseph.DeLorenzo@dot.gov; or Bridget Zamperini, TRACS Program Manager, FTA Office of Transit Safety and Oversight, TRACS@dot.gov.

SUPPLEMENTARY INFORMATION: This notice is provided in accordance with the Federal Advisory Committee Act (FACA) (5 U.S.C., ch. 10). TRACS is composed of up to 25 members representing a broad base of perspectives on transit safety necessary to discharge its responsibilities. Please see the TRACS web page for additional information at https://www.transit.dot.gov/regulations-and-guidance/safety/transit-advisory-committee-safety-tracs.

I. Background

The U.S. Secretary of Transportation (Secretary) established TRACS in accordance with FACA to provide information, advice, and recommendations to the Secretary and FTA Administrator on matters relating to the safety of public transportation systems.

II. Agenda

TRACS Meeting—Monday, June 24, 2024 (Day One, 10 a.m.-4:30 p.m. ET):

1. 10:00 a.m.-10:15 a.m. ET: Welcoming Remarks from Bridget Zamperini, TRACS Program Manager

2. 10:15 a.m.-10:25 a.m. ET: TRACS Designated Federal Office (DFO) Remarks from Joe DeLorenzo, Associate Administrator for Transit Safety and Oversight (TSO) and Chief Safety Officer

3. 10:25 a.m.-10:40 a.m. ET: Introduction from Veronica Vanterpool, FTA Deputy Administrator

4. 10:40 a.m.-10:50 a.m. ET: Break

5. 10:50 a.m.-11:00 a.m. ET: Updates from TRACS Chairperson and Vice Chairperson, Jim Keane and Lisa Staes

6. 11:00 a.m.-11:30 a.m. ET: Update from Advancing Rider and Worker Safety Subcommittee Lead, Raymond Lopez

7. 11:30 a.m.-12:00 p.m. ET: Update from Reducing Bus Collisions, Subcommittee Lead, Santiago Osorio

8. 12:00 p.m.-1:00 p.m. ET: Lunch

9. 1:00 p.m.-1:30 p.m. ET: Update from Cyber and Data Security Systems Subcommittee Lead, Brian Alberts

10. 1:30 p.m.-4:10 p.m. ET: Subcommittee Breakout Working Sessions

11. 4:10 p.m.-4:30 p.m. ET: Summary of Deliverables and Concluding Remarks

TRACS Meeting—Tuesday, June 25, 2024 (Day Two, 9 a.m.-2 p.m. ET):

1. 9:00 a.m.-9:15 a.m. ET: Welcoming Remarks from Bridget Zamperini, TRACS Program Manager

2. 9:15 a.m.-11:30 a.m. ET: Subcommittee Breakout Working Sessions

3. 11:30 a.m.-12:15 p.m. ET: Lunch

4. 12:15 p.m.-12:45 p.m. ET: Advancing Rider and Worker Safety Subcommittee Presentation and Discussion

5. 12:45 p.m.-1:15 p.m. ET: Reducing Bus Collisions Subcommittee Presentation and Discussion

6. 1:15 p.m.-1:45 p.m. ET: Cyber and Data Security Systems Subcommittee Presentation and Discussion

7. 1:45 p.m.-1:55 p.m. ET: Public Comments

8. 1:55 p.m.-2:00 p.m. ET: Summary of Deliverables, Next Steps, and Concluding Remarks

III. Public Participation

The meeting will be open to the public. Members of the public who wish to participate are asked to register via email by submitting their name and affiliation to the email address listed in the ADDRESSES section.

DOT is committed to providing equal access to this meeting for all participants. If you need alternative formats or services because of a disability, such as sign language, interpretation, or other ancillary aids, please contact the email address listed in the ADDRESSES section.

There will be a total of 30 minutes allotted for oral comments from members of the public at the meeting. To accommodate as many speakers as possible, the time for each commenter may be limited. Individuals wishing to reserve speaking time during the meeting must submit a request with the individual's name, address, and organizational affiliation to the email address listed in the ADDRESSES section.

Written and oral comments for consideration by TRACS during the meeting must be submitted no later than the deadline listed in the DATES section to ensure transmission to TRACS members prior to the meeting. Comments received after that date will be distributed to the members but may not be reviewed prior to the meeting.

Joseph P. DeLorenzo,
Associate Administrator for Transit Safety and Oversight.

[FR Doc. 2024-12586 Filed 6-7-24; 8:45 am]

BILLING CODE 4910-57-P